DEPARTMENT OF ENERGY

Federal Energy Regulatory Commission

Combined Notice of Filings #2

Take notice that the Commission received the following electric rate filings:

Docket Numbers: ER10-2487-004; ER15-2380-002.

Applicants: Pacific Summit Energy LLC, Willey Battery Utility, LLC.

Description: Triennial Market Power Update for the Northeast Region of the Sumitomo Companies, et al.

Filed Date: 6/27/17.

Accession Number: 20170627-5127.

Comments Due: 5 p.m. ET 8/28/17.

Docket Numbers: ER10-3069-007; ER10-3070-007.

Applicants: Alcoa Power Generating Inc., Alcoa Power Marketing LLC.

Description: Southeast Regional Triennial Submission and Notice of Change in Status of the Alcoa Subsidiaries.

Filed Date: 6/27/17.

Accession Number: 20170627-5126.

Comments Due: 5 p.m. ET 8/28/17.

Docket Numbers: ER17-1357-001.

Applicants: Duke Energy Progress, LLC, Duke Energy Carolinas, LLC.

Description: Tariff Amendment: Joint OATT DEP and DEC Real Power Loss Factor Deficiency Filing to be effective 6/1/2017.

Filed Date: 6/27/17.

Accession Number: 20170627-5114.

Comments Due: 5 p.m. ET 7/18/17.

Docket Numbers: ER17-1379-001.

Applicants: Southwest Power Pool, Inc.

Description: Tariff Amendment: Deficiency Response in ER17-1379—Att AE Section 8.4 Re-Pricing Clarification to be effective 6/3/2017.

Filed Date: 6/27/17.

Accession Number: 20170627-5123.

Comments Due: 5 p.m. ET 7/18/17.

Docket Numbers: ER17-1916-000.

Applicants: Southern Maryland Electric Cooperative, Inc., PJM Interconnection, L.L.C.

Description: § 205(d) Rate Filing: SMECO submits revisions to OATT, Sch 1A and Att. H-9C re: new distribution rates to be effective 12/31/9998.

Filed Date: 6/27/17.

Accession Number: 20170627-5120.

Comments Due: 5 p.m. ET 7/18/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2017.
Nathaniel J. Davis, Sr.,
Deputy Secretary.

[FR Doc. 2017-13961 Filed 6-30-17; 8:45 am]

BILLING CODE 6717-01-P